DEPARTMENT OF DEFENSE

Office of the Secretary

Strategic Environmental Research and Development Program, Scientific Advisory Board

AGENCY: Department of Defense.

ACTION: Notice.

SUMMARY: This Notice is published in accordance with section 10(a)(2) of the Federal Advisory Committee Act (Pub. L. 92-463). The topic of the meeting on March 14-15, 2006 are to review new start and continuing research and development projects requesting Strategic Environmental Research and Development Program funds in excess of $1M. This meeting is open to the public. Any interested person may attend, appear before, or file statements with the Scientific Advisory Board at the time and in the manner permitted by the Board.

DATES: March 14-15, 2006 from 8 a.m. to 5 p.m.

ADDRESSES: SERDP Program Office, 901 North Stuart Street, Suite 804, Arlington, VA 22203.

FOR FURTHER INFORMATION CONTACT: Ms. Misa Jensen, SERDP Program Office, 901 North Stuart Street, Suite 303, Arlington, VA or by telephone at (703) 696-2126.

L.M. Bynum,
OSD Federal Register Liaison Officer, Department of Defense.

[FR Doc. 06-1574 Filed 2-21-06; 8:45am]

BILLING CODE 5001-06-M